DEPARTMENT OF DEFENSE

Department of the Air Force

Intent to Grant an Exclusive License

Pursuant to the provision of part 404 of title 37, Code of Federal Regulations, which implements Public Law 96-517, as amended, the Department of the Air Force announces its intention to grant UES, Inc., a corporation of Ohio, having a place of business at 4401 Dayton-Xenia Road, Dayton, OH, an exclusive right, title and interest the Air Force has in: United States Patent Application Serial Number—11/083,919—High Speed & Repeatability Serial Sectioning Device for 3-D Reconstruction of Microstructures by Jonathan Spowart and Herbert Mullens United States Patent Application Serial Number—11/083,920—High Speed & Repeatability Serial Sectioning Method for 3-D Reconstruction of Microstructures by Jonathan Spowart and Herbert Mullens United States Patent Application Serial Number—11/083,918—High Speed & Repeatability Serial Sectioning Method for 3-D Reconstruction of Microstructures Using Scanning Electron Microscope by Jonathan Spowart and Herbert Mullens United States Patent Application Serial Number—11/083,921—High Speed & Repeatability Serial Sectioning Method for 3-D Reconstruction of Microstructures Using Optical Microscopy Jonathan Spowart and Herbert Mullens

A license for these patent applications and for any subsequent patents issued will be granted unless a written objection is received within 15 days from publication of this Notice. Written objection should be sent to : Air Force Material Command Law Office, AFMCLO/JAZ, 2240 B Street, Rm 100, Wright-Patterson AFB OH 45433-7109.

Albert Bodnar,
Federal Register Liaison Officer.

[FR Doc. 05-8756 Filed 5-2-05; 8:45 am]

BILLING CODE 5001-5-P